DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 83 FR 50379, dated October 5, 2018) is amended to reflect the reorganization of Office of the Director, National Center for HIV/AIDS, Viral Hepatitis, STD, and TB Prevention, Office of Infectious Diseases, Centers for Disease Control and Prevention. This reorganization was driven by both functional necessity and the need to mitigate risk of cross-channel communication inefficiencies.

Section C-B, Organization and Functions, is hereby amended as follows:

Delete in its entirety the title and functional statement for the Office of Program Planning and Policy Coordination (CVJ16) and insert the following:

Office of Policy, Planning and Partnerships (CVJ16). (1) Identifies program priorities through strategic planning and other processes as appropriate; (2) oversees the development of the center's performance plan and performance reports to ensure accountability and improve programs and activities; (3) coordinates with the center director, deputy director and management officer on the formulation of the NCHHSTP budget; (4) liaises with the CDC Business Services Offices on congressional, legislative, and other inquiries; (5) maintains liaison with Congress on matters including appropriations, legislative bill tracking, and legislative requests, testimony for hearings, congressional inquiries, etc.; (6) develops policy- and program-related materials for internal and external stakeholders; (7) oversees the preparation and routing of controlled correspondence; (8) maintains liaison with key CDC offices and individuals working on public health policies and legislative issues; (9) serves as liaison to governmental and nongovernmental partners on policy-related issues; (10) oversees coordination of CDC OD engagement requests, executive or legislative branch issues, and management efforts; (11) conducts analysis related to short- and long-term CIO priorities; (12) develops and manages partnership activities, including non-governmental and private sector organizations; (13) develops long-term partnership and policy development plans across CIO divisions and in coordination with center OD offices; (14) disseminates information to CIO leadership and staff, as appropriate, on policy, planning and partner engagement situation analyses; (15) coordinates the completion of Freedom of Information Act requests, supporting CIO Divisions; (16) coordinates with Health Communication Science Office to disseminate information to partner organizations; (17) manages two federal advisory committees for CIO; and (18) coordinates risk mitigation activities across CIO.

After the functional statement for the Office of Program Planning and Policy Coordination (CVJ16), insert the following:

Health Communication Science Office (CVJ17). (1) Serves as the principal advisor to NCHHSTP on communication and marketing practice, research, and science; (2) provides oversight to ensure the quality of health communication and marketing campaigns and products created by NCHHSTP and its divisions; (3) serves as NCHHSTP clearance office for health communication campaigns and products; develops and manages clearance systems; (4) provides strategic planning and coordination for NCHHSTP strategic communication and social marketing programs in collaboration with OD and division-level staff; (5) collaborates with NCHHSTP divisions and center policy staff to ensure consistent and timely translation of center-specific scientific findings and recommendations for messages and materials effective for the news media, social media, partner, and other communication channels; (6) coordinates and provides center input on communication activities; (7) coordinates CDC and NCHHSTP brand management and logo licensing; (8) provides oversight and consultation on partner/stakeholder communication; (9) provides oversight, consultation, and strategic coordination on partnership development and relationships in collaboration with NCHHSTP divisions and CDC CIOs for the National Prevention Information Network; (10) manages communication infrastructure for NCHHSTP partnerships; (11) oversees management, policy guidance, and governance of NCHHSTP digital channels and websites per HHS and CDC policy for the use of communication platforms; (12) provides coordination and conducts activities to support NCHHSTP's presence on networked media, including social, mobile, and traditional media; (13) collects/analyzes user data/metrics from communication channels and technologies to assess system performance, usability, accessibility, and usefulness; (14) formulates strategic communication objectives for advancing program priorities and addressing identified long-range issues through news media, partner, and other communication strategies; (15) oversees the implementation of strategic communication plans through several functional areas; (16) develops and implements all proactive media outreach and reactive media responses for the center; (17) provides media training and technical assistance, as appropriate; and (18) serves as liaison to key offices for obtaining CDC and HHS media clearance on products/activities.

Sherri A. Berger,
Chief Operating Officer, Centers for Disease Control and Prevention.

[FR Doc. 2019-01321 Filed 2-6-19; 8:45 am]

BILLING CODE 4160-18-P